ENVIRONMENTAL PROTECTION AGENCY

[FRL-7102-2]

Recent Posting of Agency Regulatory Interpretations Pertaining to Applicability and Monitoring for Standards of Performance for New Stationary Sources and National Emission Standards for Hazardous Air Pollutants to the Applicability Determination Index (ADI) Database System

AGENCY: Environmental Protection Agency (EPA).

ACTION: Notice of Availability.

SUMMARY: In accordance with the Administrative Procedure Act (5 U.S.C. 552(a)), and the Clean Air Act provisions for judicial review (42 U.S.C. 7607(b)), this notice announces interpretations of applicability and alternative monitoring decisions that have been made by the EPA under the New Source Performance Standards (NSPS), and the National Emission Standards for Hazardous Air Pollutants (NESHAP).

DATES: Comments on any of the documents posted on the ADI database system must be submitted on or before January 14, 2002.

ADDRESSES: Comments may be submitted to the attention of Maria Malave; Mail Code 2223A; Compliance Assessment and Media Programs Division, Office of Compliance, Office of Enforcement and Compliance Assurance, U.S. Environmental Protection Agency, 401 M Street SW., Washington, DC 20460 or send via E-mail to malave.maria@epa.gov.

FOR FURTHER INFORMATION CONTACT: An electronic copy of the complete document posted on the ADI database system is available on the Internet through the Applicability Determination Index (ADI) at: http://es.epa.gov/oeca/eptdd/adi.html. The document may be located by date, author, subpart, or subject search. For questions about the ADI or this notice, contact Maria Malave at EPA by phone at: (202) 564-7027, or by email at: malave.maria@epamail.epa.gov. For technical questions about the individual applicability determinations or monitoring decisions, refer to the contact person identified in the individual documents, or in the absence of a contact person, refer to the author of the document.

SUPPLEMENTARY INFORMATION:

Background

The NSPS (40 CFR part 60) and the NESHAP (40 CFR parts 61 and 63) provide that a source owner or operator may request a determination of whether certain actions constitute the commencement of construction, reconstruction, or modification. EPA's written responses to these inquiries are broadly termed applicability determinations. See 40 CFR 60.5 and 61.06. The NSPS and NESHAP also allow sources to seek permission to use monitoring or recordkeeping which is different from the promulgated requirements. See 40 CFR 60.13(i), 61.14(g), 63.8(b)(1), 63.8(f), and 63.10(f). EPA's written response to these inquiries are broadly termed alternative monitoring. Further, EPA responds to written inquiries about the broad range of NSPS and NESHAP regulatory requirements as they pertain to a whole source category. These inquiries may pertain, for example, to the type of sources for which a regulation is applicable, or clarification of the applicable testing, monitoring, recordkeeping or reporting requirements.

EPA currently compiles EPA-issued NSPS and NESHAP regulatory interpretations pertaining to applicability determinations and alternative monitoring, and posts them on the Applicability Determination Index (ADI) on a quarterly basis. The ADI is an electronic index on the Internet with over one thousand EPA letters and memoranda pertaining to the applicability, monitoring, recordkeeping, and reporting requirements of the NSPS and NESHAP. The letters and memoranda may be searched by date, office of issuance, subpart, citation, or by string word searches.

Today's notice comprises a summary of 24 of such documents added to the ADI on August 31, 2001. The subject, author, recipient, and date (header) of each letter and memoranda is listed in this notice, as well as a brief abstract of the letter or memoranda. Complete copies of these documents may be obtained from the ADI at: http://es.epa.gov/oeca/eptdd/adi.html.

Summary of Headers and Abstracts

The following table identifies the database control number for each document posted on the ADI database system on August 31, 2001, the applicable category; the subpart(s) of 40 CFR part 60, 61, or 63 (as applicable) covered by the document; and the title of the document which provides a brief description of the subject matter. We have also included a summary of each abstract identified with its control number after the table.

ADI Determinations Uploaded on August 31, 2001
Control No. | Category | Subpart | Title
A010001 | Asbestos | M | Single family house with asbestos containing floor tile.
A010002 | Asbestos | M | State authority regarding single-family house with asbestos.
M010012 | MACT | N | Applicability to process without chromic acid use.
M010013 | MACT | S | Alternative monitoring for pulp & paper closed vent systems.
M010014 | MACT | S, A | Alternative monitoring/inspection for closed vent systems.
M010015 | MACT | T | Halogenated solvent cleaning alternative method of compliance.
M010016 | MACT | S | Alternative monitoring for pulp & paper closed vent systems.
M010017 | MACT | B | Circumvention & case-by-case MACT determinations.
Z010003 | NESHAP | H, I | Application of Subpart H to DOE owned, NRC licensed facility.
Z010004 | NESHAP | H | Alternative method of determining compliance under Subpart H.
0100039 | NSPS | Kb | Subpart Kb application to wastewater detoxification tanks.
0100040 | NSPS | A, B, Ce | Alternative monitoring of HCI emissions-hospital incinerator.
0100052 | NSPS | Db | Alternative monitoring for burning pulp mill stripper off gases.
0100041 | NSPS | RR | Subpart RR testing/waiver exemption.
0100042 | NSPS | GG | Subpart GG alternative monitoring plan.
0100043 | NSPS | A, Dc | Shorter sampling time for initial performance testing.
0100044 | NSPS | A | Modification issues for dense pack turbine project.
0100045 | NSPS | Da | Approval of RATA schedule for Subpart Da boiler.
0100046 | NSPS | GG | Approval of alternative monitoring plan under Subpart GG.
0100047 | NSPS | WWW | Use of a natural attenuation factor.
0100048 | NSPS | GG | Request for alternative monitoring under Subpart GG.
0100049 | NSPS | A, Db | Commencement of construction.
0100050 | NSPS | Dc, A | Request for alternative fuel usage recordkeeping plan.
0100051 | NSPS | GG | Request for custom fuel monitoring schedule under Subpart GG.

Abstracts

Abstract for (A010001):

Q1. Does the asbestos NESHAP regulation apply to single family homes?

A1. The asbestos NESHAP program applies to “facilities” which include, institutional, commercial, public, industrial, or residential structures, i.e., apartments, condominiums, cooperatives. A single family residence or a residential building having four or fewer dwelling units is not subject to the asbestos NESHAP requirements.

Q2. If asbestos containing floor tile and mastic were removed by a jackhammer, would the resulting friable asbestos waste material be subject to the asbestos NESHAP regulations?

A2. If a contractor removes greater than 160 square feet of asbestos containing material (ACM) by using a jackhammer, the resulting waste material is subject to the asbestos NESHAP. However, in your situation, the asbestos NESHAP would not apply. The “All Other Asbestos Projects” citation from the COMAR may apply to your situation.

Q3. What is the definition of “hand pressure”?

A3. There is no definition for “hand pressure” in the asbestos NESHAP regulations. There is a reference to “hand pressure” under the definition for regulated asbestos containing material. In a July 1992 applicability determination, the Agency wrote that vinyl asbestos tile in good condition, if subject to certain forces, i.e., mechanical, weather or aging can be weakened to the point where it can become friable because it can be crumbled, pulverized or reduced to powder by hand pressure. Using the jackhammer on asbestos containing tile has a high probability for significant fiber release. The tile becomes regulated asbestos containing material and subject to the asbestos NESHAP because using a jackhammer grinds or abrades the normally non-friable material.

Abstract for (A0100020):

Q: Why would a State and not the EPA have jurisdiction over asbestos in the case of a single-family home?

A: Single-family homes are not considered “facilities” under the asbestos NESHAP, thus no Federal laws or regulations are implicated. In addition, the State in this case has an equivalent asbestos NESHAP program, to which EPA generally defers. Thus, the State takes the lead in implementing the asbestos NESHAP program in the State. The determination letter provides further guidance on technical issues.

Abstract for (M010012):

Q. A facility operates a tank to produce a protective conversion coating on magnesium parts using an anodic process but no chromic acid is added to the tank. Is the tank subject to the Chromium NESHAP?

A. No. Chromium anodizing is defined under Subpart N 40 CFR 63.341 as the electrolytic process by which an oxide layer is produced on the surface of a base metal for functional purposes using a chromic acid solution. Because the facility does not use a chromic acid solution in the tank, EPA has concluded that this process is not an anodizing process that is regulated by the Chromium NESHAP.

Abstract for (M010013):

Q. Can continuous monitoring of vacuum indication on the negative pressure sections for both the Low Volume High Concentration (LVHC) and High Volume Low Concentration (HVLC) gas collection systems be used instead of conducting the 30-day inspections required by MACT for closed vent systems specified in 40 CFR 63.453(k)(2)?

A. Yes. EPA will approve an alternative monitoring method proposed to continuously monitor vacuum indication on the negative pressure sections for both the LVHC and HVLC collection systems with an additional requirement to perform a visual area survey once a quarter after loss of vacuum.

Abstract for (M010014):

Q. Will EPA approve a proposal to inspect the closed-vent and closed collection systems once every calendar month, with at least 14 days elapsed time between inspections, instead of once every 30 days as specified in 40 CFR 63.453(k) and (l)?

A. Yes.

Abstract for (M010015):

Q. Will EPA approve an “alternative standard” in accordance with 40 CFR 63.464(d) for measuring compliance with 40 CFR Part 63, subpart T?

A. Yes. EPA will approve an alternative method of compliance that includes additional monitoring parameters.

Abstract for (M010016):

Q. Can amperage loading on the scrubber fan be used instead of gas scrubber vent gas inlet flow rate measurements to ensure compliance with the HAP removal requirements of 40 CFR 63.445?

A. Yes, provided the appropriate monitoring values for the vent gas motor amperage established during the initial performance test are approved by the designated regulatory agency.

Abstract for (M010017):

Q: What is the time period that EPA considers when acting on an application for a new synthetic minor permit or a change to an existing synthetic minor permit for purposes of circumvention of 112(g)?

A: The EPA views any new construction, any proposal for new construction, or any relaxation of synthetic minor limits within 5 years of the initial permit as evidence of a potential phased construction for a source.

Abstract for (Z010003):

Q: Will a facility which is both owned by the Department of Energy (DOE) and licensed and regulated by the Nuclear Regulatory Commission (NRC) be subject to 40 CFR part 61, subpart H?

A: Yes. Subpart H applies to any facility which is owned or operated by the DOE.

Abstract for (Z010004):

Q: Are high-volume air samplers an acceptable alternative to continuous stack monitoring for demonstrating compliance with 40 CFR Part 61, subpart H?

A: Yes. The proposal meets the criteria specified in 40 CFR 61.93(b)(5).

Abstract for (0100039):

Q. Is NSPS subpart Kb applicable to three existing 100,000 gallon wastewater detoxification tanks?

A. No. For reasons other than those submitted by the company, EPA agrees that NSPS subpart Kb does not apply to the tanks. See the letter below for EPA's discussion of all pertinent and specific information used in this determination. The letter also addresses and discusses why the reasons submitted by the company to try to support this decision were not used.

Abstract for (0100040):

Q1: Does the Federal hospital/medical/infectious waste incinerator (HMIWI) section 111(d)/129 plan, subpart HHH, allow the use of continuous emission monitoring systems (CEMS) for determining compliance with the HCl emissions limitation instead of the stipulated methods—monitoring sorbent flow rates and use of EPA Reference Test Method 26?

A1: Yes, 40 CFR 62.14452(l) allows use of CEMS to demonstrate compliance with the HCl emissions limitation, providing the HMIWI owner/operator: (1) Determines compliance using a 12-hour rolling average, calculated each hour as the average of the previous 12 operating hours (not including startup, shutdown, or malfunction); (2) determines the measured HCl concentrations on an adjusted basis, 7 percent oxygen, dry; and (3) operates the CEMS in accordance with applicable EPA performance specifications, quality assurance and quality control requirements under appendices B and F of 40 CFR part 60.

Q2: Because EPA has not promulgated performance specifications, quality assurance and quality control requirements for hydrogen chloride CEMS, can EPA now approve a request for use of CEMS to determine HCl emission rates and compliance with subpart HHH?

A2: Yes, providing the alternative HCl monitoring request includes or references acceptable performance specifications (PS), and quality assurance/quality control (QA/QC) requirements. EPA has determined that the proposed use of the Pennsylvania Department of Environmental Protection (PADEP) CEMS manual, Revision No. 6, January 1996 will provide acceptable PS and QA/QC requirements.

Abstract for (0100041):

Q: Will EPA grant a facility a testing waiver/extension for its reconstructed 3L coating line and associated thermal oxidizer where the facility would be required to test the same line to show compliance with other State and federal regulations within a “short” period of time?

A: No. EPA will not grant a testing waiver/extension because the eighteen months between the required subpart RR compliance test and the deadline date for the MPCA test is too long.

Abstract for (0100042):

Q1: Will monitoring of fuel nitrogen content be required if natural gas is the only fuel fired in each turbine?

A1: No.

Q2: Will daily monitoring of sulfur be required if only pipeline quality natural gas is fired?

A2: No. The monitoring schedule from U.S. EPA's national guidance for subpart GG, dated August 14, 1987, should be used for sulfur monitoring when natural gas is fired.

Abstract for (0100043):

Q: May the sampling time for Method 9 opacity testing while burning fuel oil in a boiler be reduced to one hour per boiler?

A: Yes. In this particular case, the shorter test sampling time may be reduced to one hour for Boilers 4 and 5 while burning fuel oil because the construction permit is so restrictive that 3 hours of initial performance testing would consume a significant portion of the annual operating time allowed for these boilers while burning fuel oil.

Abstract for (0100044):

Q: Does the installation of Dense Pack turbine blades constitute a modification?

A: Probably not. Although such a project would constitute a nonroutine physical change under PSD, it would not be a modification under PSD (as well as NSPS) if there were not an associated emissions increase as defined under the respective PSD and NSPS rules.

Abstract for (0100045):

Q: Will EPA allow a reduced frequency of Relative Accuracy Test Audits (RATAs) for an infrequently operated boiler?

A: Yes. In this particular case, the boiler is operated only 8 days per year as a peaking unit. EPA believes that it is reasonable to provide for some reduction in quality assurance testing for the continuous emissions monitors, as long as the boiler meets acid rain program requirements at 40 CFR Part 75, and operates as a peaker.

Abstract for (0100046):

Q: Will EPA relieve a facility that uses only pipeline quality natural gas of the nitrogen monitoring requirements?

A: Yes.

Q: May a facility use the sulfur monitoring requirements in sections 2.3.1.4 and 2.3.3.1 of Appendix D to Part 75 in lieu of 40 CFR 60.334(b) and 60.335(a)?

A: Yes.

Q: Is a nitrogen CEM a permissible alternative to the monitoring requirements at 40 CFR 60.334(a) and 60.335(c)(2)?

A: Yes.

Abstract for (0100047):

Q: May a landfill use a natural attenuation factor for fugitive landfill gas control for the purpose of State fee reports and emission inventories?

A: No. Natural attenuation was evaluated during the rulemaking process for 40 CFR part 60, subpart WWW. Analysis by the U.S. EPA determined that there was insufficient oxygen and residence time for aerobic biofiltration to be a significant removal pathway.

Abstract for (0100048):

Q1: Is nitrogen monitoring of either natural gas or landfill gas required?

A1: Nitrogen monitoring of landfill quality natural gas is not required. Nitrogen monitoring of landfill gas will be waived if EPA receives adequate information that the landfill gas in question contains very little fuel-bound nitrogen.

Q2: Will EPA permit a facility not to perform sulfur monitoring when natural gas and landfill gas are used?

A2: No. However, this particular facility provided data on the sulfur content of each type of fuel. This data showed that the sulfur content was minimal. Therefore, the facility may begin at semi-annual testing.

Abstract for (0100049):

Q: Did Tenneco commence construction when it internally obligated funds for the purpose of modifying a boiler prior to June 19, 1984, thereby not triggering NSPS, subpart Db applicability?

A: No. For the purposes of subpart A, there was no contractual obligation to construct an affected facility.

Q: Does the installation of sampling ports on a boiler constitute commencement of construction?

A: No. The ports were installed to gather data for planning and design work, or other unrelated activities, which does not constitute commencement of construction, reconstruction, or modification.

Abstract for (0100050):

Q: Will EPA grant Tyson Foods an alternative fuel usage recordkeeping plan under subpart Dc?

A: Yes. The specific recordkeeping requirements for the facility are included in Attachment A to the response letter.

Abstract for (0100051):

Q1: Will EPA approve the waiver of monitoring fuel bound nitrogen for facilities using only pipeline quality natural gas?

A1: Yes.

Q2: What should the sulfur monitoring schedule be for peaking-only units that use only natural gas and operate only during the summer months?

A2: These types of peaking units test once per month during the initial ozone season (May-September). If this shows little variability, then sulfur monitoring should be conducted once per season thereafter.

Abstract for (0100052):

Q: A company intends to burn stripper off gases (SOGs) from pulping processes in a boiler subject to subpart Db, which would cause the facility to exceed the subpart Db NOX emission limits. The company requests permission to use an alternative monitoring procedure for NOX which will consist of correcting the continuous NOX monitoring data by subtracting the NOX contribution from burning SOGs. Is this acceptable?

A: No. Since the combustion of SOGs in the boiler is not exempt from NSPS subpart Db, the proposed alternative monitoring procedure is not acceptable. However, EPA's OAQPS has agreed to initiate rulemaking to amend the subpart Db regulation to allow the establishment of an alternative NOX standard for pulp mills, similar to the provision in 40 CFR 60.44b(f) for chemical manufacturing plants and petroleum refineries which combust byproduct/waste.

Dated: November 6, 2001.
Michael M. Stahl,
Director, Office of Compliance.

[FR Doc. 01-28632 Filed 11-14-01; 8:45 am]

BILLING CODE 6560-50-P